DEPARTMENT OF AGRICULTURE

Forest Service

Kootenai National Forest: Lincoln County; Montana; Starry Goat Project EIS

AGENCY: Forest Service, USDA.

ACTION: Notice of intent to prepare an environmental impact statement.

SUMMARY: The Forest Service will prepare an Environmental Impact Statement (EIS) to disclose the environmental effects of commercial and non-commercial vegetation management activities, prescribed burning, watershed and recreation improvement activities. Access management changes and other design features are included to protect resources and facilitate management activities. The project is located in the Callahan planning subunit on the Three Rivers Ranger District, Kootenai National Forest, Lincoln County, Montana, near Troy, Montana.

DATES: Comments concerning the scope of the analysis must be received by December 7, 2016. The draft environmental impact statement is expected in June 2017 and the final environmental impact statement is expected in December 2017.

ADDRESSES: Send written comments to Kirsten Kaiser, District Ranger, Three Rivers Ranger District, 12858 U.S. Highway 2, Troy, MT 59935. Comments may be submitted online at https://cara.ecosystemmanagement.org/Public//CommentInput?Project=49837, or by email to: comments-northern-kootenai-three-rivers@fs.fed.us, or via facsimile to 406-295-7410.

FOR FURTHER INFORMATION CONTACT: Miles Friend, Project Team Leader, Three Rivers Ranger District, 12858 U.S. Highway 2, Troy, MT 59935. Phone: (406) 295-4693. Individuals who use telecommunication devices for the deaf (TDD) may call the Federal Information Relay Service (FIRS) at 1-800-877-8339 between 8 a.m. and 8 p.m., Eastern Time, Monday through Friday.

SUPPLEMENTARY INFORMATION: The Starry Goat project area is immediately west of Troy, Montana, and runs from the Kootenai River west to the boundary between the Kootenai and Idaho Panhandle National Forests. The project area encompasses approximately 90,776 acres (48,471 acres in Montana; 42,305 acres in Idaho, all administered by the Kootenai National Forest). Callahan Creek, Brush Creek, Ruby Creek, and Star Creek are the major drainages in the project area; all flowing into the Kootenai River at the project area boundary. The legal description includes Townships 30,31, and 32 North, Ranges 33 and 34 West, Lincoln County, Montana; and Townships 58, 59, 60, and 61 North, Ranges 2 and 3 East, Bonner and Boundary County, Idaho.

Purpose and Need for Action

The purpose and need for this project is to: (1) Promote resilient vegetation conditions by managing towards the 2015 Forest Plan desired conditions for landscape-level vegetation patterns, structure, patch size, fuel loading, and species composition; (2) maintain or improve hydrologic connectivity, water quality and native aquatic species habitat; (3) improve big game winter range conditions and promote forage opportunities while maintaining secure habitat for wildlife; (4) provide a variety of wood products to the American public, and contribute to the local economy by generating jobs and income; (5) maintain and improve the recreation opportunities in the project area; (6) reduce the potential for high intensity wildfire while promoting desirable fire behavior characteristics and fuel conditions.

Proposed Action

The proposed action includes timber harvest and associated fuels treatments, prescribed burning, recreation improvements and watershed work to address the purpose and need. The proposed action includes:

(1) Approximately 1,550 acres of regeneration harvest and 553 acres of intermediate harvest. These treatments would be accomplished through 1,846 acres of tractor harvest and 257 acres of skyline harvest. Pre-commercial thinning (PCT) is proposed on 395 acres within the project area. Approximately 132 acres of the proposed PCT would occur within the Callahan Lynx Analysis Unit (LAU) and treatment would be consistent with Forest Plan standard FW-STD-WL-01. Pruning may occur along with PCT or by itself. There are 17 units proposed that would create or contribute to 14 different openings larger than 40 acres. This action requires a 60 day public review and Regional Forester approval (FSM 2471.1). This document serves as the beginning of the 60 day comment period. The largest of these treatment units would be approximately 231 acres in size. Treatments are proposed within old growth stands in the drier habitat types in Douglas-fir/ponderosa pine dominated stands to contribute to their stand resistance and resiliency (FW-GDL-VEG-01). Approximately 136 acres of harvest treatments are proposed within old growth and 113 acres of treatment within recruitment potential old growth. There would be 3,351 acres of fuels treatments proposed within old-growth stands or portions of those stands.

(2) In an effort to return fire to the landscape and to promote wildlife foraging opportunities approximately 9,950 acres of prescribed burning is being proposed. Approximately 3,458 acres in the WUI are proposed for burning. Approximately 5,870 acres of this burning will occur in the Inventoried Roadless Areas of which 3,248 acres is in Idaho and 2,622 acres is in Montana.

(3) Implementation of best management practice (BMP) work and road maintenance work would be implemented on Forest Service timber haul roads. Approximately 54 miles of National Forest System road (NFSR) would be improved to meet State BMPs for water quality.

(4) Approximately 12.6 miles of active road storage, 4.95 miles of active decommissioning, and 5.1 miles of passive decommissioning would be done on roads not currently open for public motorized travel. Roads identified in the Travel Analysis as needed for long-term management of NFS lands would be put into intermittent stored service (storage). Roads identified as not needed for future management would be decommissioned. Both storage and decommissioning could have a range of treatments including simple barrier installation (passive treatment) where watershed impacts are not likely, to active treatments ranging from removing culverts to full recontouring where risks to watersheds are high. Non-motorized access would be facilitated with improved tread on road segments identified by the public as important for use. In addition, there are three sites with proposed watershed actions on existing roads including: Callahan sediment trap improvement on NFSR 414, Raymond Creek bridge removal, and Goat Creek road culvert upgrade.

(5) The district is proposing fuel mitigation and roadside thinning to facilitate fuels reduction, safe ingress and egress for the public in case of a wildland fire and road maintenance within the project area. Approximately 779 acres of thinning and 78 acres of road maintenance are proposed along only the Forest Service roads open to yearlong motorized use.

(6) Proposed Starry Goat activities would impact approximately 1,372 acres of existing grizzly bear core, nearly all of which is associated with harvest access and haul on currently barriered roads. A minor access management change at the top of Smith Mountain also contributes to this total. Gated roads that could be barriered to provide the necessary in-kind replacement of core have been identified. These roads currently do not allow for public motorized use during the bear year. Once these road are barriered and placed into core, no motorized use could occur on these roads during the bear year including administrative use.

(7) Proposed Recreation Improvements include the Threemile Mountain Bike Flow Trail and the McConnell Snowshoe Trail. The bike trail system consists of both a descent oriented “Flow Trail” and a “Cross-Country Bike” style loop. The “Flow trail” would consist of approximately 7 miles of new construction. The “Cross-Country Bike loop” would consist of approximately 6 miles of new trail construction and would be pursued as time and funding permits. The McConnell Snowshoe Trail includes approximately 4 miles of new construction.

(8) The Star Creek Quarry, North Fork 7 Mile Quarry, Three Mile Quarry and Airport Garvel Pit are proposed for free use rock picking where the public would be able to get a personal use permit (~2 tons per permit). The District proposes to increase the Airport Pit by approximately 3 acres and the North Fork 7 Mile Quarry by approximately 1 acre over the life of the pits.

Possible Alternatives

The Forest Service will consider a range of alternatives. One of these will be the “no action” alternative in which none of the proposed action would be implemented. Additional alternatives may be included in response to issues raised by the public during the scoping process or due to additional concerns for resource values identified by the interdisciplinary team.

Responsible Official

The Forest Supervisor of the Kootenai National Forest, 31374 U.S. Highway 2, Libby, MT 59923-3022, is the Responsible Official. As the Responsible Official, I will decide if the proposed action will be implemented. I will document the decision and rationale for the decision in the Record of Decision. I have delegated the responsibility for preparing the draft environmental impact statement (DEIS) and final environmental impact statement (FEIS) to the District Ranger, Three Rivers Ranger District.

Nature of Decision To Be Made

Based on the purpose and need, the Responsible Official reviews the proposed action, the other alternatives, the environmental consequences, and public comments on the analysis in order to make the following decisions:

(1) Whether to implement timber harvest and associated fuel reduction treatments, prescribed burning, watershed work, and recreation improvements, including the design features and potential mitigation measures to protect resources; and if so, how much, and at what specific locations.

(2) What, if any, specific project monitoring requirements are needed to assure design features and potential mitigation measures are implemented and effective, and to evaluate the success of the project objectives. Preliminary project monitoring needs identified include effectiveness of BMP work. A project-specific monitorng plan will be developed.

Preliminary Issues

Initial analysis by the interdisciplinary team has brought forward an issue that may affect the design of the project.

(1) There are 17 harvest units that would contribute to 14 openings larger than 40 acres. This action requires a 60 day public review and Regional Forester approval (FSM 2471.1). This document serves as the beginning of the 60 day public review period.

Scoping Process

This notice of intent initiates the scoping process, which guides the development of the environmental impact statement. The interdisciplinary team will continue to seek information, comments, and assistance from Federal, State, and local agencies, tribal governments, and other individuals or organizations that may be interested in, or affected by, the proposed action. There are several collaborative groups in the area that the interdisciplinary team will interact with during the analysis.

It is important that reviewers provide their comments at such times and in such manner that they are useful to the agency's preparation of the environmental impact statement. Therefore, comments should be provided prior to the close of the comment period and should clearly articulate the reviewer's concerns and contentions. A more detailed scoping letter is available on request as well as on the Kootenai National Forest projects page located here: http://www.fs.usda.gov/projects/kootenai/landmanagement/projects.

Comments received in response to this solicitation, including names and addresses of those who comment, will be part of the public record for this proposed action. Comments submitted anonymously will be accepted and considered.

Dated: October 31, 2016.
Christopher S. Savage,
Forest Supervisor.

[FR Doc. 2016-26821 Filed 11-4-16; 8:45 am]

BILLING CODE 3411-15-P